DEPARTMENT OF ENERGY

Federal Energy Regulatory Commission

[Docket No. RM05-1-000]

Regulations Governing the Conduct of Open Seasons for Alaska Natural Gas Transportation Projects; Notice of Alaska Natural Gas Transportation Projects Open Season Pre-Filing Workshop

January 5, 2010.

On January 12, 2010, the Staff of the Federal Energy Regulatory Commission (FERC) will hold a workshop on the procedures and process for commenting upon and holding an open season for an Alaska Natural Gas Transportation Project. The Workshop is being hosted by the Alaska Department of Natural Resources and the Regulatory Commission of Alaska.

In 2005, in the above-referenced docket, FERC enacted regulations under the Alaska Natural Gas Pipeline Act which established the procedures for conducting open seasons for the purpose of making binding commitments for the acquisition of capacity on Alaskan natural gas transportation projects. Both Denali—The Alaska Gas Pipeline LLC and TransCanada Alaska Company LLC—Alaska Pipeline Project have publicly stated that they intend to hold open seasons for their respective Alaskan natural gas transportation projects in 2010.

Under FERC's open season regulations, prior to conducting an open season for an Alaskan natural gas transportation project, each project sponsor is required to submit a detailed open season plan to FERC. After receiving the project sponsor's open season plan, FERC will issue a notice requesting public comments on the open season plan and explain the procedure for submitting such comments. Absent unusual circumstances, FERC will act on the open season plan within 60 days of its submission by the project sponsor.

Both of these project sponsors have initiated FERC's pre-filing process, which is typically focused on FERC's environmental review of a project. However in this instance, the pre-filing process also includes FERC's review, approval, and oversight of the project sponsors' open season. FERC Staff is holding this Open Season Pre-Filing Workshop to provide interested parties an opportunity to learn about and discuss the procedures and process for commenting upon and holding an open season.

The workshop will be held on January 12, 2010, from 1 p.m. to 5 p.m. (AST) at: Tikhatnu Ballroom D, Anchorage Convention Center, Dena`Ina Civic and Convention Center, 600 West Seventh Avenue, Anchorage, AK 99501.

All interested parties may attend. The workshop will not be transcribed by the FERC Staff. Telephone participation will be available; Conference call participants should call in to 1-800-315-6338 and enter code 8800#.

For additional information concerning this event, please contact Richard Foley at 202-502-8955 or Mary O'Driscoll at 202-502-8680.

Kimberly D. Bose,
Secretary.

Alaska Natural Gas Transportation Projects Open Season Pre-Filing Workshop

Agenda

1 p.m.—Welcome and Opening Remarks

Anne Brown, Deputy State Pipeline Coordinator for the State of Alaska

1:15 p.m.—Explanation of FERC Open Season Policy and Alaskan Open Season Rules

Richard Foley, FERC Staff, Lead Certificate Manager for Alaskan Projects

2:15 p.m.—Explanation of FERC's Electronic Records and Filing System

Todd Ruhkamp, FERC Staff, Senior Certificate Analyst

2:45 p.m.—Break

3 p.m.—Questions and Discussion

4:45 p.m.—Closing Remarks and Adjourn

[FR Doc. 2010-530 Filed 1-13-10; 8:45 am]

BILLING CODE 6717-01-P